DEPARTMENT OF ENERGY

Federal Energy Regulatory Commission

[Docket No. OR16-18-000]

American Airlines, Inc. v. Plantation Pipe Line Company; Notice of Complaint

Take notice that on May 13, 2016, pursuant to Rule 206 of the Rules of Practice and Procedure of the Federal Energy Regulatory Commission (Commission), 18 CFR 385.206, section 343.2 of the Commission's Rules Applicable to Oil Pipeline Proceedings, 18 CFR 343.2, American Airlines, Inc. (American or Complainant) filed a formal complaint against Plantation Pipe Line Company (Plantation or Respondent), alleging that Plantation unlawfully proposed to suspend jet fuel transportation service in violation of sections 1, 3, 6, 13, and 15 of the Interstate Commerce Act, 49 U.S.C. app. 1, 3, 6, 13, and 15 (1988) and that its transmix policy is unduly discriminatory and unduly preferential, all as more fully explained in the complaint.

American certifies that copies of the complaint were served on the contacts for Plantation as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 13, 2016.

Dated: May 17, 2016.
Kimberly D. Bose,
Secretary.

[FR Doc. 2016-12064 Filed 5-20-16; 8:45 am]

BILLING CODE 6717-01-P